DEPARTMENT OF THE INTERIOR

Bureau of Land Management

[LLCOS00000 L16100000.DJ0000]

Notice of Availability of the Proposed Bureau of Land Management Tres Rios Field Office and San Juan National Forest Land and Resource Management Plan/Final Environmental Impact Statement

AGENCY: Bureau of Land Management, Interior.

ACTION: Notice of Availability.

SUMMARY: In accordance with the National Environmental Policy Act of 1969, as amended, and the Federal Land Policy and Management Act of 1976, as amended, the Bureau of Land Management (BLM) has prepared a Proposed Land and Resource Management Plan/Final Environmental Impact Statement (LRMP/Final EIS) for the San Juan Public Lands Planning Area in Colorado, and by this notice is announcing its availability. The LRMP/Final EIS is a jointly prepared BLM and United States Forest Service (USFS) document and also addresses management of National Forest System lands administered by the San Juan National Forest. Release of the USFS document is addressed under a separate notice.

DATES: The BLM planning regulations provide that any person who meets the conditions as described in the regulations may protest the BLM's LRMP/Final EIS. A person who meets the conditions and files a protest must file the protest within 30 days of the date that the Environmental Protection Agency publishes it in the Federal Register.

ADDRESSES: Copies of the Tres Rios Field Office LRMP/Final EIS have been sent to affected Federal, State and local government agencies; and interested parties. A list of the locations where copies of the LRMP/Final EIS are available for public inspection can be found in the SUPPLEMENTARY INFORMATION section below. Interested persons may also review the LRMP/Final EIS on the Internet at: http://www.fs.usda.gov/main/sanjuan/landmanagement/planning, http://www.blm.gov/co/st/en/fo/sjplc/land_use_planning.html.

All protests to the BLM must be in writing and mailed to one of the following addresses:

Regular Mail: BLM Director (210), Attention: Brenda Hudgens-Williams, P.O. Box 71383, Washington, DC 20024-1383.

Overnight Mail: BLM Director (210), Attention: Brenda Hudgens-Williams, 20 M Street SE., Room 2134LM, Washington, DC 20003.

FOR FURTHER INFORMATION CONTACT: Shannon Manfredi, Plan Revision Team Leader, telephone 970-385-1229; 15 Burnett Court, Durango, CO 81301; email smanfredi@fs.fed.us. For BLM-specific issues, contact Gina Jones, BLM Southwest District NEPA Specialist, telephone 970-240-5381; 2465 S. Townsend Avenue, Montrose, CO 81401; email gmjones@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM planning area is located within Archuleta, Dolores, La Plata, Montezuma, Montrose, San Juan, and San Miguel counties in southwestern Colorado. Approximately 504,400 surface acres and 704,300 acres of subsurface mineral estate administered by the BLM Tres Rios Field Office are addressed by the proposed management decisions in the LRMP and analyzed in the Final EIS. The lands within the planning area are currently managed under the 1985 San Juan/San Miguel Resource Management Plan, as amended. The current RMP was approved in 1985 and has been amended seven times. The BLM inventoried Wilderness Study Areas in 1980, recommended to Congress in 1991, and manages them consistent with BLM Manual 6330-Management of BLM Wilderness Study Areas so as not to impair the suitability of such areas for preservation as wilderness until such time that Congress makes a final wilderness decision.

The BLM worked extensively with communities, interested and affected publics and cooperating agencies to develop the LRMP/Final EIS. Cooperating agencies include the Town of Rico, Colorado. Comments received from the public on the Draft LRMP/Draft EIS and from internal agency review were considered and incorporated as appropriate into the LRMP/Final EIS. Based on public comments, the BLM identified the need to prepare a Supplement to the Draft EIS to consider the Reasonable Foreseeable Development potential of oil and gas in the Gothic Shale Gas Play. In addition to the Supplement, public comments resulted in the addition of updated information and clarifying text, but did not substantially change proposed land use plan decisions. The following four alternatives are analyzed in the Final EIS:

Alternative A represents the continuation of current management direction under the existing San Juan/San Miguel Resource Management Plan (1985), as amended. Alternative B, the proposed alternative, provides for a mix of multiple-use activities, with a primary emphasis on maintaining most of the large, contiguous blocks of undeveloped lands; enhancing various forms of recreation opportunities; and maintaining the full diversity of uses including mineral development and rangeland vegetation management. Alternative C provides for a mix of multiple-use activities with a primary emphasis on maintaining the undeveloped character of the planning area. Management of resource uses would be more constrained than proposed under Alternatives A, B and D. In some cases and in some areas, uses would be excluded to protect sensitive resources. Alternative D, provides for a mix of multiple-use activities, identifying the most lands for maximum development to produce a higher level of commodity goods and services compared to the other alternatives.

The proposed LRMP (Alternative B) would establish two Areas of Environmental Concern (ACEC), Gypsum Valley and Anasazi Culture Area, totaling approximately 14,274 acres to provide special management to protect relevant and important cultural, historic, scenic, and natural resource values. The proposed plan would also apply protective management to approximately 11,869 acres of inventoried lands with wilderness characteristics in two different areas. Public lands available for renewable energy development, mineral development, land use authorization, systems of designated travel routes, and other uses would be provided for under the proposed plan, which would delineate and, as necessary, apply limitations on these uses. In addition, management parameters and prescriptions would be applied to a variety of natural, cultural and visual resources including air and water quality; wildlife habitat; forests and woodlands; and other components of the biological, physical and cultural environment.

Copies of the Tres Rios Field Office LRMP/Final EIS are available for public inspection at the Web sites listed in the ADDRESSES section above, and at the following locations:

• San Juan Public Lands Center, 15 Burnett Court, Durango, CO 81301

• Dolores Public Lands Office, 29211 Highway 184, Dolores, CO 81323

• Columbine Ranger District, 367 Pearl Street, Bayfield, CO 81122

• Pagosa Ranger District, 180 Pagosa Street, Pagosa Springs, CO 81147

• BLM Colorado State Office, 2850 Youngfield Street, Lakewood, CO 80215

• USDA Forest Service, Rocky Mountain Region, 740 Simms St., Golden, CO 80401

• Libraries in the following locations in Colorado: Cortez; Durango; Pagosa Springs; Dove Creek; Norwood; Silverton; Colorado State University, Ft. Collins; University of Colorado, Boulder; and Fort Lewis College, Durango.

Instructions for filing a protest with the Director of the BLM regarding the LRMP/Final EIS may be found in the “Dear Reader” Letter of the LRMP/Final EIS and at 43 CFR 1610.5-2. Emailed protests will not be accepted as valid protests unless the protesting party also provides the original letter by either regular or overnight mail postmarked by the close of the protest period. Under these conditions, the BLM will consider the emailed protest as an advance copy and it will receive full consideration. If you wish to provide the BLM with such advance notification, please direct emails to bhudgens@blm.gov. All protests, including the follow-up letter to emails, must be in writing and mailed to the appropriate address as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Helen M. Hankins,
BLM Colorado State Director.

[FR Doc. 2013-22785 Filed 9-19-13; 8:45 am]

BILLING CODE 4310&ndashJB-P